DEPARTMENT OF THE INTERIOR

Bureau of Land Management

[CO-200-0777-XZ-241A]

Notice of Meeting, Front Range Resource Advisory Council (Colorado)

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting will be held July 26, 2006 from 1 p.m. to 5 p.m. and will continue on July 27, 2006 from 8 a.m. to 2 p.m.

ADDRESSES: Comfort Inn of Alamosa, 6301 Road 107 South, Alamosa, Colorado.

FOR FURTHER INFORMATION CONTACT: Ken Smith, (719) 269-8500.

SUPPLEMENTARY INFORMATION: The 15 member Council advises the Secretary of the Interior, through the Bureau of Land Management, on a variety of planning and management issues associated with public land management in the Royal Gorge Field Office and San Luis Valley, Colorado. Planned agenda topics on July 26 include: Manager updates on current land management issues; and updates on timber, insect problems and energy development potential on public lands in the San Luis Valley and updates on other public land issues. On July 27, the Council will tour and discuss issues at various sites included on public lands. All meetings are open to the public. The public is encouraged to make oral comments to the Council at 1:15 p.m. on July 26 or written statements may be submitted for the Councils consideration. Depending on the number of persons wishing to comment and time available, the time for individual oral comments may be limited. The public is also welcome to attend the field tour on July 27, however they may need to provide their own transportation. Summary minutes for the Council Meeting will be maintained in the Royal Gorge Field Office and will be available for public inspection and reproduction during regular business hours within thirty (30) days following the meeting. Meeting Minutes and agenda (10 days prior to each meeting) are also available at: http://www.blm.gov/rac/co/frrac/co_fr.htm.

Dated: June 26, 2006.
Roy L. Masinton,
Royal Gorge Field Manager.

[FR Doc. E6-10660 Filed 7-6-06; 8:45 am]

BILLING CODE 4310-JB-P